DEPARTMENT OF ENERGY

Federal Energy Regulatory Commission

[Docket No. RP16-618-000]

Algonquin Gas Transmission, LLC; Supplemental Notice of Technical Conference

As announced in the Notice of Technical Conference issued on April 15, 2016 in the above-captioned proceeding, a technical conference will be held in this proceeding on Monday, May 9, 2016, beginning at 10:00 a.m. and ending at approximately 3:30 p.m., at the Federal Energy Regulatory Commission, 888 First Street, NE., Washington, DC 20426. The purpose of the technical conference is to examine the issues raised in the protests and comments regarding the February 19, 2016 filing made by Algonquin Gas Transmission, LLC (Algonquin). In that filing, Algonquin proposed to exempt from the capacity release bidding requirements certain types of capacity releases of firm transportation by electric distribution companies that are participating in state-regulated electric reliability programs.¹ Issues to be examined at the technical conference include concerns raised regarding the basis and need for the waiver.

¹ Algonquin Gas Transmission, LLC, 154 FERC ¶ 61,269 (2016).

The agenda for this technical conference is attached. Due to the number of parties requesting to make presentations, each presentation will be limited to fifteen minutes to provide sufficient time for discussion. We have allotted time between each presentation for questions and comments from staff, panelists, and the audience. Parties may file in this docket longer presentations or other materials prior to the technical conference. A schedule for post-technical comments will be established at the technical conference.

For more information about this technical conference, please contact Anna Fernandez at Anna.Fernandez@ferc.gov or (202) 502-6682. For information related to logistics, please contact Sarah McKinley at Sarah.Mckinley@ferc.gov or (202) 502-8368.

Dated: May 5, 2016.
Kimberly D. Bose,
Secretary.

[FR Doc. 2016-11222 Filed 5-11-16; 8:45 am]

BILLING CODE 6717-01-P